EXPORT-IMPORT BANK

Sunshine Act Meetings

ACTION: Notice of an open meeting of the Board of Directors of the Export-Import Bank of the United States.

DATES: Tuesday, September 29, 2020 at 10:00 a.m. EDT.

PLACE: The meeting will be held via teleconference and audio-only webinar.

STATUS: The meeting will be open to public observation by teleconference only.

PUBLIC PARTICIPATION: The meeting will be open to public participation and time will be allotted for questions or comments submitted online. Members of the public may also file written statements before or after the meeting to external@exim.gov. Interested parties may register for the meeting at https://register.gotowebinar.com/register/4591529081381306894.

FOR FURTHER INFORMATION CONTACT: For further information, contact Brittany J. Walker, Deputy to the Senior Vice President for External Engagement 202-565-3216.

Joyce B. Stone,
Assistant Corporate Secretary.

[FR Doc. 2020-20626 Filed 9-15-20; 11:15 am]

BILLING CODE 6690-01-P